DEPARTMENT OF THE INTERIOR

National Park Service

36 CFR Part 13

[NPS-AKRO-15122; PPAKAKROZ5, PPMPRLE1Y.L00000]

RIN 1024-AE21

Alaska; Hunting and Trapping in National Preserves—Reopening of Public Comment Period

AGENCY: National Park Service, Interior.

ACTION: Proposed rule; reopening of public comment period.

SUMMARY: The National Park Service is reopening the public comment period for the proposed rule to amend its regulations for sport hunting and trapping in National Preserves in Alaska. The proposed rule also includes updates to procedures for closing an area or restricting an activity in National Park Service Areas in Alaska and other minor changes. Reopening the comment period for 31 days will allow more time for the public to review the proposal and submit comments.

DATES: The comment period for the proposed rule published on September 4, 2014 (79 FR 52595), is reopened. Comments must be received by 11:59 p.m. EST on February 15, 2015.

ADDRESSES: You may submit comments, identified by Regulation Identifier Number (RIN) 1024-AE21, by either of the following methods:

• Federal eRulemaking Portal: http://www.regulations.gov. Follow the instructions for submitting comments.

• Mail or hand deliver to: National Park Service, Regional Director, Alaska Regional Office, 240 West 5th Ave., Anchorage, AK 99501.

Instructions: Comments will not be accepted by fax, email, or in any way other than those specified above. All submissions must include the words “National Park Service” or “NPS” and must include the docket number or RIN for this rulemaking (1024-AE21).

FOR FURTHER INFORMATION CONTACT: Andee Sears, Regional Law Enforcement Specialist, Alaska Regional Office, 240 West 5th Ave., Anchorage, AK 99501. Phone (907) 644-3417. Email: AKR_Regulations@nps.gov.

SUPPLEMENTARY INFORMATION: On September 4, 2014, the National Park Service (NPS) published in the Federal Register (79 FR 52595) a proposed rule to amend its regulations for sport hunting and trapping in National Preserves in Alaska The proposed rule also includes updates to procedures for closing an area or restricting an activity in National Park Service Areas in Alaska and other minor changes. The 90-day public comment period for this proposal closed on December 3, 2014. In order to give the public additional time to review and comment on the proposal, we are reopening the public comment period from January 15, 2015 through February 15, 2015. If you already commented on the proposed rule you do not have to resubmit your comments.

To view comments received through the Federal eRulemaking portal, go to http://www.regulations.gov and enter 1024-AE21 in the search box. Before including your address, phone number, email address, or other personal identifying information in your comment, you should be aware that your entire comment—including your personal identifying information—may be made publicly available at any time. While you can ask us in your comment to withhold your personal identifying information, we cannot guarantee that we will be able to do so.

Dated: December 18, 2014.
Michael Bean,
Principal Deputy Assistant Secretary for Fish and Wildlife and Parks.

[FR Doc. 2014-30665 Filed 1-14-15; 8:45 am]

BILLING CODE 4310-EJ-P